DEPARTMENT OF TRANSPORTATION

Federal Railroad Administration

Petition for Waiver of Compliance

In accordance with part 211 of title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Virginia & Truckee Railroad

[Waiver Petition Docket Number FRA-2010-0093]

The Virginia & Truckee Railroad (V&T) petitioned FRA for relief from the requirements of 49 CFR 215.203 Restricted Cars, for five pieces of freight equipment used in tourist/excursion service and the associated stenciling as required under 49 CFR 215.303.

V&T is a tourist, excursion, or educational railroad operating between Virginia City and Carson City via Gold Hill, Nevada. The railroad was relayed after having been removed at the conclusion of commercial operations. The railroad operates an average of seven round trips between Virginia City and Gold Hill Depot, NV, per day, May through October. They also operate three trains between Carson City to Virginia City, NV, Saturday & Sunday May through October, with special trains scheduled in November. The maximum operating speed for the entire railroad is 20 mph.

All of the freight equipment referenced in the petition is operated by V&T on a non-insular, not part of the general system of transportation railroad. The railroad line is not connected to the general system at either end, but has public highway crossings at grade. This Special Approval shall apply only to the following five cars: V&T 50, V&T 55, V&T 54, V&T 123, and V&T MW 124, owned and operated by V&T. A consolidated list of the equipment and the prohibited components was provided as an attachment to their petition.

These freight cars were either converted to passenger excursion cars, or used in conjunction with their tourist/excursion operation, none carry freight. Some of the equipment is used for photographic subjects in an educational setting to depict the type of freight trains that would have operated in the era during mining operations. Therefore, stenciling the required information on the equipment would not be consistent with the educational setting that the railroad strives to depict. Therefore, the railroad seeks relief from the requirements to stencil the equipment indicating the restricted components. There have been no derailments or other safety issues with the operation of the equipment, nor their prohibited components. As stated by V&T, loss of use of this equipment would cause the railroad to cease operations.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0093) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on November 3, 2010.
Robert C. Lauby,
Deputy Associate Administrator for Safety Compliance and Program Implementation.

[FR Doc. 2010-28313 Filed 11-9-10; 8:45 am]

BILLING CODE 4910-06-P